DEPARTMENT OF LABOR

Employment and Training Administration

[TA-W-57,838]

Texstyle, Inc., Manchester, KY; Notice of Affirmative Determination Regarding Application for Reconsideration

By application of October 17, 2005, petitioners requested administrative reconsideration of the Department of Labor's Notice of Negative Determination Regarding Eligibility to Apply for Worker Adjustment Assistance, applicable to workers of TexStyle, Inc., Manchester, Kentucky (the subject firm). The negative determination for the subject firm was issued on September 15, 2005, and published in the Federal Register on October 31, 2005 (70 FR 62345).

Under a prior certification (TA-W-51,404), workers were eligible to apply for worker adjustment assistance (issued on April 21, 2003; expired on April 21, 2005). The investigation instituted on August 25, 2005, revealed that the workers did not produce an article or support an affiliated domestic production facility during the relevant period.

New information provided on December 1, 2005 by the subject firm revealed that some production did occur at TexStyle, Inc., Manchester, Kentucky during the relevant period.

The Department carefully reviewed the petitioners' request for reconsideration and has determined that the Department will conduct further investigation based on new information provided by the subject firm.

Conclusion

After careful review of the application, I conclude that the claim is of sufficient weight to justify reconsideration of the Department of Labor's prior decision. The application is, therefore, granted.

Signed at Washington, DC, this 22nd day of December 2005.
Elliott S. Kushner,
Certifying Officer, Division of Trade Adjustment Assistance.

[FR Doc. E6-799 Filed 1-23-06; 8:45 am]

BILLING CODE 4510-30-P